SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions and extensions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, OLCA, Attn: Reports Clearance Director, 3100 West High Rise, 6401 Security Blvd., Baltimore, MD 21235, Fax: 410-966-2830, Email address: OR.Reports.Clearance@ssa.gov.

I. The information collections below are pending at SSA. SSA will submit them to OMB within 60 days from the date of this notice. To be sure we consider your comments, we must receive them no later than March 3, 2014. Individuals can obtain copies of the collection instruments by writing to the above email address.

1. Application for Survivors Benefits—20 CFR 404.611(a) and (c)—0960-0062. Surviving family members of armed services personnel can file for Social Security and veterans' benefits with SSA or at the Veterans Administration (VA). If applicants file for Title II survivor benefits at the VA, they complete Form SSA-24, which is then forwarded to SSA for processing. SSA uses the information to determine eligibility for benefits. The respondents are survivors of deceased armed services personnel who are applying for benefits at the VA.

Type of Request: Revision of an OMB-approved information collection.

Modality of completion | Number of respondents | Frequency of response | Average burden per response (minutes) | Estimated total annual burden (hours)
SSA-24 | 3,200 | 1 | 15 | 800

2. Student Reporting Form—20 CFR 404.352(b)(2); 404.367; 404.368; 404.415; 404.434; 422.135—0960-0088. To qualify for Social Security Title II student benefits, student beneficiaries must be in full-time attendance status at an educational institution. In addition, SSA requires these beneficiaries to report events that may cause a reduction, termination, or suspension of their benefits. SSA collects such information on Forms SSA-1383 and SSA-1383-FC to determine if the changes or events the student beneficiaries report will affect their continuing entitlement to SSA benefits. SSA also uses the SSA-1383 and SSA-1383-FC to calculate the correct benefit amounts for student beneficiaries. The respondents are Social Security Title II student beneficiaries.

Type of Request: Revision of an OMB-approved information collection.

Modality of completion | Number of respondents | Frequency of response | Average burden per response (minutes) | Estimated total annual burden (hours)
SSA-1383 | 74,887 | 1 | 6 | 7,489
SSA-1383-FC | 113 | 1 | 6 | 11
Totals | 75,000 |  |  | 7,500

3. Reporting Events—SSI-20 CFR 416.701-416.732—0960—0128. SSA mails the SSA-8150 to SSI recipients when they allege payment or eligibility-changing events. Either the SSI recipient fills out the paper version of the form, or they complete the form through an in-person or telephone interview with an SSA employee who records the information using the Modernized SSI Claims System. In addition to the SSA-8150, recipients may need to submit supplementary documentation showing the payment or eligibility-changing events (e.g., payment stubs, or rental agreements). SSA uses Form SSA-8150 and the supplementary documentation to determine changes in Supplemental Security Income (SSI) eligibility and amounts. The respondents are current SSI recipients, or their representatives, who experience a payment or eligibility-changing event.

Type of Request: Revision of an OMB-approved information collection.

Modality of completion | Number of respondents | Frequency of response | Average burden per response (minutes) | Estimated total annual burden (hours)
SSA-8150 | 36,767 | 1 | 5 | 3,064

II. SSA submitted the information collections below to OMB for clearance. Your comments regarding the information collections would be most useful if OMB and SSA receive them 30 days from the date of this publication. To be sure we consider your comments, we must receive them no later than January 30, 2014. Individuals can obtain copies of the OMB clearance packages by writing to OR.Reports.Clearance@ssa.gov.

1. Requests for Self-Employment Information, Employee Information, Employer Information—20 CFR 422.120-0960-0508. When SSA cannot identify Form W-2 wage data for an individual, we place the data in an earnings suspense file and contact the individual (and in certain instances the employer) to obtain the correct information. If the respondent furnishes the name and Social Security number (SSN) information that agrees with SSA's records, or provides information that resolves the discrepancy, SSA adds the reported earnings to the respondent's Social Security record. We use Forms SSA-L2765, SSA-L3365, and SSA-L4002 for this purpose. The respondents are self-employed individuals and employees whose name and SSN information do not agree with their employer's and SSA's records.

Type of Request: Revision of an OMB-approved information collection.

Modality of completion | Number of respondents | Frequency of response | Average burden per response (minutes) | Estimated total annual burden (hours)
SSA-L2765 | 12,321 | 1 | 10 | 2,054
SSA-L3365 | 179,749 | 1 | 10 | 29,958
SSA-L4002 | 121,679 | 1 | 10 | 20,280
Totals | 313,749 |  |  | 52,292

2. Employer Reports of Special Wage Payments—20 CFR 404.428-404.429-0960-0565. SSA collects information on the SSA-131 to prevent earnings-related overpayments and to avoid erroneous withholding of benefits. SSA field offices and program service centers also use Form SSA-131 for awards and post-entitlement events requiring special wage payment verification from employers. While we need this information to ensure the correct payment of benefits, we do not require employers to respond. The respondents are large and small businesses that make special wage payments to retirees.

Type of Request: Revision of an OMB-approved information collection.

Modality of completion | Number of respondents | Frequency of response | Average burden per response (minutes) | Estimated total annual burden (hours)
Paper Version: SSA-131 (without #6) | 105,000 | 1 | 20 | 35,000
Paper Version SSA-131 (#6 only) | 1,050 | 1 | 2 | 35
Electronic Version: Business Services Online Special Wage Payments | 26 | 1 | 5 | 2
Totals | 106,076 |  |  | 35,037

3. Work Activity Report (Self-Employment)—20 CFR 404.1520(b), 20 CFR 404.1571—404.1576, 20 CFR 404.1584—404.1593, and 20 CFR 416.971—416.976—0960-0598. SSA uses Form SSA-820-U4 to determine initial or continuing eligibility for (1) Title II Social Security disability benefits or (2) Title XVI SSI payments. Under Titles II and XVI of the Social Security Act, recipients receive disability benefits and SSI payments based on their inability to engage in substantial gainful activity (SGA) due to a physical or mental condition. Therefore, when the recipients resume work, they must report their work so SSA can evaluate and determine by law whether they continue to meet the disability requirements. SSA uses Form SSA-820-U4 to obtain information on self-employment activities of Social Security disability applicants and recipients. We use the data we obtain to evaluate disability claims, and to help us determine if the claimant meets current disability provisions under Titles II and XVI. Since applicants for disability benefits must prove an inability to perform any kind of SGA generally available in the national economy for which we expect them to qualify based on age, education, and work experience, any work an applicant performed until, or subsequent to, the date the disability allegedly began, affects our disability determination. The respondents are applicants and claimants for SSI or Social Security disability benefits.

Type of Request: Revision of an OMB-approved information collection.

Modality of completion | Number of respondents | Frequency of response | Average burden per response (minutes) | Estimated total annual burden (hours)
SSA-820-BK | 100,000 | 1 | 30 | 50,000

4. Private Printing and Modification of Prescribed Application and Other Forms—20 CFR 422.527—0960-0663. 20 CFR 422.527 of the Code of Federal Regulations requires a person, institution, or organization (third-party entities) to obtain approval from SSA prior to reproducing, duplicating, or privately printing any application or other form the agency owns. To obtain SSA's approval, entities must make their requests in writing using their company letterhead, providing the required information set forth in the regulation. SSA uses the information to (1) ensure requests comply with the law and regulations, and (2) process requests from third-party entities who want to reproduce, duplicate, or privately print any SSA application or other SSA form. SSA employees review the requests and provide approval via email or mail to the third-party entities. The respondents are third-party entities who submit a request to SSA to reproduce, duplicate, or privately print an SSA-owned form.

Type of Request: Extension of an OMB-approved information collection.

Modality of completion | Number of respondents | Frequency of response | Average burden per response (minutes) | Estimated total annual burden (hours)
20 CFR 422.527 | 15 | 15 | 8 | 30

5. Epidemiological Research Report—20 CFR 401.165—0960-0701. Section 311 of the Social Security Independence and Program Improvements Act of 1994 directs SSA to support health researchers involved in epidemiological research. Specifically, when we determine a study contributes to a national health interest, SSA furnishes information to determine if a study subject appears in SSA administrative records as alive or deceased (vital status). SSA charges a small fee per request for providing this information. Web posted questions solicit the information SSA needs to provide the data and to collect the fees. The respondents are qualified health and scientific researchers who apply to receive vital status information about individuals from Social Security administrative data records.

Type of Request: Extension of an OMB-approved information collection.

Type of respondent | Number of respondents | Frequency of response | Average burden per response (minutes) | Estimated total annual burden (hours)
State & Local Government | 15 | 1 | 120 | 30
Private Entities | 10 | 1 | 120 | 20
Totals | 25 |  |  | 50

Cost Burden

Average annual cost per respondent (based on SSA data): $3,500.

Total estimated annual cost burden: $87,500.

Dated: Decdember 26, 2013.
Faye Lipsky,
Reports Clearance Director, Social Security Administration.

[FR Doc. 2013-31293 Filed 12-30-13; 8:45 am]

BILLING CODE 4191-02-P